DEPARTMENT OF STATE

[Public Notice No. 3208]

United States International Telecommunication Advisory Committee for Radiocommunication (ITAC-R) and Joint Meeting of ITAC-R and ITAC-T Telecommunication Standardization Sector Notice of Meetings;

The Department of State announces meetings of the U.S. International Telecommunication Advisory Committee for Radiocommunication (ITAC-R) and a joint meeting of the ITAC-R and ITAC-T the International Telecommunication Advisory Committee—Telecommunication Standardization. The purpose of the committee is to advise the Department and provide strategic planning recommendations on telecommunication and information policy matters related to the United States participation in the work of International Telecommunications Treaty Organizations. The ITAC-R will meet from 9:30 to noon on February 3, 2000 in room 5951 at the Department of State to Prepare for the ITU Radiocommunication Assembly, May 1-5, 2000. A joint meeting of ITAC-R and ITAC-T will meet from 2 PM to 4:30 PM on February 3, 2000 in room 5951 to prepare for international study group meetings of the ITU-R and ITU-T that deal with related issues concerning broadcasting and telecommunications matters, and IMT-2000 coordination between ITAC-R and ITAC-T.

Members of the general public may attend these meetings and join in the discussions, subject to the Instructions of the Chair. Admission of public members will be limited to seating available. Entrance to the Department of State is controlled; people intending to attend any of these meetings should send a fax to 202-647-7407 not later than 24 hours before the meeting. This fax should display the name of the meeting, (ITAC-R or Joint ITAC-R and ITAC-T) and date of the meeting, your name, social security number, date of birth, and organizational affiliation. One of the following valid photo identifications will be required for admittance: US driver's license, US passport, and US Government identification card. Enter From the “C” Street Main Lobby; in view of escorting requirements, non-Government attendees should plan to arrive not later than 15 minutes before the meeting begins.

Dated: January 27, 2000.
John T. Gilsenan,
Deputy Director of Multilateral Affairs, U.S. Department of State.

[FR Doc. 00-2118 Filed 1-28-00; 8:45 am]

BILLING CODE 4710-45-P